ENVIRONMENTAL PROTECTION AGENCY

40 CFR Part 281

[EPA-R08-UST-2006-0295; FRL-8247-2]

Colorado: Tentative Approval of State Underground Storage Tank Program

AGENCY: Environmental Protection Agency (EPA).

ACTION: Proposed rule; notice of tentative determination on application of state of Colorado for final approval, public hearing and public comment period.

SUMMARY: The State of Colorado has applied for final approval of its Underground Storage Tank (UST) Program under Subtitle I of the Resource Conservation and Recovery Act (RCRA). EPA has reviewed Colorado's application and made the tentative decision that the State's UST program satisfies all requirements necessary to qualify for final approval.

DATES: Any member of the public is invited to provide written comments and/or request a public hearing on this determination by December 27, 2006. A public hearing will be held if sufficient public interest is expressed and communicated to EPA in writing by December 27, 2006. EPA will determine by January 26, 2007, whether there is significant interest to hold a public hearing. The State of Colorado will participate in any public hearing held by EPA on this subject. Please see SUPPLEMENTARY INFORMATION, Item C, for details.

ADDRESSES: Written comments and requests for a public hearing shall be addressed to: Robert E. Roberts, Regional Administrator, c/o Francisca Chambus (8P-W-GW), U.S. EPA, Region 8, 999 18th Street, Suite 200, Denver, CO 80202-2466. Comments, as well as requests to present oral testimony, must be received by the close of business on December 27, 2006.

All documents relating to this determination are available for public inspection and copying at the following locations: (1) U.S. EPA, Library, Region 8, 999 18th Street, Suite 144, Denver, CO 80202-2466 from 9AM to 4PM, (2) Colorado Department of Labor & Employment, Division of Oil and Public Safety, Public Records Center, 633 17th Street, Suite 200, Denver, CO 80202 from 8AM to Noon, or (3) online at: http://www.regulations.gov, with reference to Docket ID No. EPA-R08-UST-2006-0295. However, based on sensitivity, certain materials are available in hardcopy only. Comments can be submitted via www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment. If EPA cannot read your comments due to technical difficulties and cannot contact you for clarification, EPA may not be able to consider your comment. Electronic files should avoid the use of special characters, any form of encryption, and be free of any defects or viruses.

FOR FURTHER INFORMATION CONTACT: Francisca Chambus at 303-312-6782.

SUPPLEMENTARY INFORMATION:

A. Background

Section 9004 of RCRA enables EPA to approve implementation of State UST programs in lieu of the Federal UST program. Approval is granted when it has been determined that the State program: (1) is “no less stringent” than the overall Federal program and includes notification requirements of Section 9004(a) (8), 42 U.S.C. 6991c(a)(8), and (2) provides for adequate enforcement of compliance with UST standards of Section 9004(a), 42 U.S.C. 6991c(a).

B. State of Colorado

The Colorado Department of Labor & Employment, Division of Oil & Public Safety (OPS) is the lead implementing agency for the UST program in Colorado. OPS has broad statutory authority to regulate UST releases under Colorado Revised Statutes, Title 8, Labor and Industry, Articles 20 and 20.5. Specific authority to regulate the installation, operation, maintenance, and closure of USTs is found under Colorado Department of Labor and Employment; Division of Oil and Public Safety; Storage Tank Regulation 7 CCR 1101-14.

Colorado is not authorized to carry out its UST program in “Indian country.” This includes all lands within the exterior boundaries of the Southern Ute and Ute Mountain Ute Indian Reservations; any land held in trust by the United States for an Indian tribe, and any other areas that are “Indian country” within the meaning of 18 U.S.C. 1151.

C. Requesting a Hearing

Any request for a public hearing shall include: (1) The name, address, and telephone number of the individual, organization, or other entity requesting a hearing, (2) a brief statement of the requester's interest in the RA's determination and of information that he/she intends to submit at such hearing, (3) the signature of the requester or responsible official, if made on behalf of an organization or other entity, and (4) the associated Docket ID Number, if available.

Notice of any hearing shall be given not less than fifteen (15) days prior to the time scheduled for the hearing, and will be made by the RA in the Federal Register and newspapers of general circulation in the State. A notice will also be sent to both the person(s) requesting the hearing and the State. The hearing notice will include a statement of purpose, information regarding time and location, and the address and telephone number where interested persons may obtain further information. The RA will issue a final determination upon review of the hearing record.

Frivolous or insubstantial requests for a hearing may be denied by the RA. However, if a substantial request is made within thirty (30) days after this notice, a public hearing will be held. Please bring this notice to the attention of any persons known by you to have an interest in this determination.

D. Statutory and Executive Order (EO) Review

This rule only applies to Colorado's UST Program requirements pursuant to RCRA Section 9004 and imposes no requirements other than those imposed by State law. It complies with applicable EOs and statutory provisions as follows: (1) Under EO 12866: Regulatory Planning Review, the Office of Management & Budget (OMB) has exempted this rule from review; (2) under Paperwork Reduction Act, this rule does not impose an information collection burden; (3) under Regulatory Flexibility Act, and after considering economic impacts, I certify that this rule will not have significant economic impact on a substantial number of small entities; (4) as described in the Unfunded Mandates Reform Act, because this rule codifies pre-existing requirements under State law and does not impose any additional enforceable duty beyond that required by State law, it does not contain any unfunded mandate, or significantly or uniquely affect small governments; (5) under EO 13132: Federalism, this rule does not apply because it will not have federalism implications; (6) under EO 13175: Consultation & Coordination with Indian Tribal Governments, this rule does not apply because it will not have tribal implications; (7) under EO 13045: Protection of Children from Environmental Health & Safety Risks, this rule is not subject because it is not economically significant, nor is it based on health or safety risks; (8) under EO 13211: Actions that Significantly Affect Energy Supply, Distribution or Use, this rule is not subject because it is not a significant regulatory action as defined in EO 12866; and (9) under the National Technology Transfer and Advancement Act of 1995 (NTTAA), Public Law 104-113, 12(d) (15 U.S.C. 272 note), EPA is directed to use voluntary consensus standards in its regulatory activities unless doing so would be inconsistent with applicable law or otherwise impractical. Voluntary consensus standards are technical standards (i.e., materials specifications, test methods, sampling procedures and business practices) developed or adopted by voluntary consensus standards bodies. NTTAA directs EPA to provide Congress, through OMB, explanations when EPA decides not to use available and applicable voluntary consensus standards. This action does not involve technical standards. Therefore, EPA is not considering the use of any voluntary consensus standards.

List of Subjects in 40 CFR Part 281

Environmental protection, Administrative practice and procedure, Hazardous materials, Intergovernmental relations, Reporting and recordkeeping requirements.

Authority: This notice is issued under the authority of Section 9004 of the Solid Waste Disposal Act as amended 42 U.S.C. 6912(a), 6926, 6974(b).

Dated: November 17, 2006.
Kerrigan G. Clough,
Deputy Regional Administrator, Region 8.

[FR Doc. E6-19988 Filed 11-24-06; 8:45 am]

BILLING CODE 6560-50-P